ENVIRONMENTAL PROTECTION AGENCY

[FRL-8982-8]

Tentative Approval and Solicitation of Request for a Public Hearing for Public Water Supply Supervision Program Revision for the U.S. Virgin Islands

AGENCY: Environmental Protection Agency.

ACTION: Notice.

SUMMARY: Notice is hereby given that the U.S. Virgin Islands is revising its approved Public Water System Supervision Program to adopt EPA's National Primary Drinking Water Regulations. The EPA has determined that these revisions are no less stringent than the corresponding Federal regulations. Therefore, the EPA intends to approve these program revisions. All interested parties may request a public hearing.

DATES: This determination to approve the U.S. Virgin Island's primacy program revision application is made pursuant to 40 CFR 142.12(d)(3). It shall become final and effective unless (1) a timely and appropriate request for a public hearing is received or (2) the Regional Administrator elects to hold a public hearing on his own motion. Any interested person, other than Federal Agencies, may request a public hearing. A request for a public hearing must be submitted to the Regional Administrator at the address shown below by December 24, 2009. If a substantial request for a public hearing is made within the requested thirty day time frame, a public hearing will be held and a notice will be given in the Federal Register and a newspaper of general circulation. Frivolous or insubstantial requests for a hearing may be denied by the Regional Administrator. If no timely and appropriate request for a hearing is received and the Regional Administrator does not elect to hold a hearing on his own motion, this determination shall become final and effective December 24, 2009.

ADDRESSES: Any request for a public hearing shall include the following information: (1) Name, address and telephone number of the individual, organization or other entity requesting a hearing; (2) a brief statement of the requesting person's interest in the Regional Administrator's determination and a brief statement on information that the requesting person intends to submit at such hearing; (3) the signature of the individual making the requests or, if the request is made on behalf of an organization or other entity, the signature of a responsible official of the organization or other entity. Requests for Public Hearing shall be addressed to: Regional Administrator, U.S. Environmental Protection Agency—Region 2, 290 Broadway, New York, New York 10007-1866.

All documents relating to this determination are available for inspection between the hours of 9 a.m. and 4:30 p.m., Monday through Friday, at the following offices:

Office of the Commissioner, Department of Planning and Natural Resources, 45 Mars Hill, Frederiksted, St. Croix, U.S. Virgin Islands 00840-4474.

U.S. Environmental Protection Agency—Region 2, 24th Floor Drinking Water Ground Water Protection Section, 290 Broadway, New York, New York 10007-1866.

FOR FURTHER INFORMATION CONTACT: Michael J. Lowy, Drinking Water Ground Water Protection Section, U.S. Environmental Protection Agency—Region 2, (212) 637-3830.

SUPPLEMENTARY INFORMATION: Notice is hereby given that the United States Environmental Protection Agency (EPA) has determined to approve an application by the U.S. Virgin Islands Department of Planning and Natural Resources (DPNR) to revise its Public Water System Supervision Primacy Program to incorporate regulations no less stringent than the EPA's National Primary Drinking Water Regulations (NPDWR) for the following rules: Drinking Water; Maximum Contaminant Level Goals and National Primary Drinking Water Regulations for Lead and Copper; Final Rule, promulgated by EPA June 30, 1994 (59 FR 33860), Drinking Water; National Primary Drinking Water, Synthetic Organic Chemicals and Inorganic Chemicals; National Primary Drinking Water Implementation; Monitoring for Unregulated Contaminants; Final Rule, promulgated by EPA July 1, 1994 (59 FR 34320), National Primary Drinking Water Regulations; Analytical Methods for Regulated Drinking Water Contaminants; Final Rule, promulgated by EPA December 5, 1994, National Primary and Secondary Drinking Water Regulations; Analytical Methods for Regulated Drinking Water Contaminants, promulgated by EPA June 29, 1995 (60 FR 34083), National Primary Drinking Water Regulations: Analytical Methods for Radionuclides; Final Rule, promulgated by EPA March 5, 1997 (63 FR 10175), Revisions to State Primacy Requirements to Implement Safe Drinking Water Act Amendments; Final Rule, promulgated by EPA April 28, 1998 (63 FR 23361), Revision of Existing Variance and Exemption Regulations To Comply With Requirements of the Safe Drinking Water Act; Final Rule, promulgated by EPA August 14, 1998 (63 FR 43833), National Primary Drinking Water Regulation: Consumer Confidence Reports; Final Rule, promulgated by EPA August 19, 1998 (63 FR 44511) with the following Technical Corrections promulgated by EPA: June 29, 1999 (64 FR 34732), September 14, 1998 (64 FR 49671), November 27, 2002 (67 FR 70850), and December 9, 2002 (67 FR 73011), National Primary Drinking Water Regulations: Disinfectants and Disinfection Byproducts; Final Rule, promulgated by EPA December 16, 1998 (63 FR 69389), National Primary Drinking Water Regulations: Interim Enhanced Surface Water Treatment; Final Rule, promulgated by EPA December 16, 1998 (63 FR 69477), Suspension of Unregulated Contaminant Monitoring Requirements for Small Public Water Systems; Final Rule, promulgated by EPA January 8, 1999 (64 FR 1499), National Primary and Secondary Drinking Water Regulations; Analytical Methods for Chemical and Microbiological Contaminants and Revisions to Laboratory Certification Requirements; Final Rule, promulgated by EPA December 1, 1999 (64 FR 67449), National Primary Drinking Water Regulations for Lead and Copper; Final Rule, promulgated by EPA January 12, 2000 (65 FR 1950), Revisions to the Interim Enhanced Surface Water Treatment Rule and the Stage 1 Disinfectants and Disinfection Byproducts, and Revisions to State Primacy Requirements to Implement the Safe Drinking Water Act Amendments; Final Rule, promulgated by EPA April 14, 2000 (65 FR 20304), National Primary Drinking Water Regulations: Public Notification Rule; Final Rule, promulgated by EPA May 4, 2000 (65 FR 25982), with the following Technical Corrections promulgated by EPA: June 21, 2000 (65 FR 38629), June 30, 2000 (65 FR 40520), Removal of the Maximum Contaminant Level Goal for Chloroform from the National Primary Drinking Water Regulations; Final Rule, promulgated by EPA May 30, 2000 (65 FR 34404), National Primary Drinking Water Regulations; Radionuclides; Final Rule, promulgated by EPA December 7, 2000, (65 FR 76708), Revisions to the Interim Enhanced Surface Water Treatment Rule, the Stage 1 Disinfectants and Disinfection Byproducts Rule and Revisions to State Primacy Requirements to Implement the Safe Drinking Water Act Amendments; Final Rule, promulgated by EPA January 16, 2001 (66 FR 3770), National Primary Drinking Water Regulations; Arsenic and Clarifications to Compliance and New Source Contaminants Monitoring; Final Rule, promulgated by EPA January 22, 2001 (66 FR 6976), with the following Minor Clarification promulgated by EPA March 25, 2003 (68 FR 14502), Revisions to the Interim Enhanced Surface Water Treatment Rule, the Stage 1 Disinfectants and Disinfection Byproducts Rule and Revisions to State Primacy Requirements to Implement the Safe Drinking Water Act Amendments; Final Rule, promulgated by EPA February 12, 2001 (66 FR 9903), National Primary Drinking Water Regulations; Filter Backwash Recycling Rule; Final Rule, promulgated by EPA June 8, 2001 (66 FR 31086), National Primary Drinking Water Regulations; Long Term 1 Enhanced Surface Water Treatment Rule; Final Rule, promulgated by EPA January 14, 2002 (67 FR 1812), National Primary Drinking Water Regulations; Methods Update; Final Rule, promulgated by EPA October 23, 2002 (67 FR 65220), National Primary Drinking Water Regulations: Minor Revisions to Public Notification Rule, Consumer Confidence Report Rule and Primacy Rule; Final Rule, promulgated by EPA November 27, 2002 (67 FR 70850), with the following Technical Correction promulgated by EPA December 9, 2002 (67 FR 73011), National Primary and Secondary Drinking Water Regulations: Approval of Additional Method for the Detection of Coliforms and E. Coli in Drinking Water: Final Rule, promulgated by EPA February 13, 2004 (69 FR 7156), National Primary Drinking Water Regulations: Minor Corrections and Clarification to Drinking Water Regulations; National Primary Drinking Water Regulations for Lead and Copper: Final Rule, promulgated by EPA June 29, 2004 (69 FR 38850), National Primary Drinking Water Regulations: Analytical Method for Uranium, promulgated by EPA August 25, 2004 (69 FR 5217), National Primary Drinking Water Regulations: Stage 2 Disinfectants and Disinfection Byproducts Rule; Final Rule, promulgated by EPA January 4, 2006 (71 FR 388), with the following Technical Corrections promulgated by EPA January 27, 2006 (71 FR 4644), June 29, 2006 (71 FR 37168), and June 29, 2009 (74 FR 30953), National Primary Drinking Water Regulations: Long Term 2 Enhanced Surface Water Treatment Rule; Final Rule, promulgated by EPA January 5, 2006 (71 FR 654), with the following Technical Corrections promulgated by EPA January 30, 2006 (71 FR 4968) and February 6, 2006 (71 FR 6136), National Primary Drinking Water Regulations: Ground Water Rule, Final Rule, promulgated by EPA November 8, 2006 (71 FR 67427), and the following Technical Correction promulgated by EPA November 21, 2006 (71 FR 67427), and National Primary Drinking Water Regulations for Lead and Copper: Short-Term Revisions and Clarifications; Final Rule, promulgated by EPA October 10, 2007 (72 FR 5782).

The application demonstrates that the U.S. Virgin Islands has adopted drinking water regulations which satisfy the NPDWRs for the above. The USEPA has determined that the U.S. Virgin Island's regulations are no less stringent than the corresponding Federal Regulations and that the U.S. Virgin Island's DPNR continues to meet all requirements for primary enforcement responsibility as specified in 40 CFR 142.10.

Authority: (Section 1413 of the Safe Drinking Water Act, as amended, 40 U.S.C. 300g-2, and 40 CFR 142.10, 142.12(d) and 142.13)

Dated: October 14, 2009.
George Pavlou,
Acting Regional Administrator, Region 2.

[FR Doc. E9-28146 Filed 11-23-09; 8:45 am]

BILLING CODE 6560-50-P